FEDERAL COMMUNICATIONS COMMISSION

Notice of Public Information Collection(s) Being Reviewed by the Federal Communications Commission

February 6, 2004.

SUMMARY: The Federal Communications Commission, as part of its continuing effort to reduce paperwork burden invites the general public and other Federal agencies to take this opportunity to comment on the following information collection(s), as required by the Paperwork Reduction Act of 1995, Public Law No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 18, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 220554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0804.

Title: Universal Service—Health Care Providers Universal Service Program.

Form Nos: FCC Forms 465, 466, 466-A and 467.

Type of Review: Revision of a currently approved collection.

Respondents: Business or other for-profit and not-for-profit institutions.

Number of Respondents: 12,800 respondents; 14,400 responses.

Estimated Time Per Response: .50-3 hours.

Frequency of Response: On occasion reporting requirement and third party disclosure requirement.

Total Annual Burden: 17,600 hours.

Total Annual Cost: N/A.

Needs and Uses: The Commission seeks comment on ways to streamline further the application process and expand outreach efforts regarding the rural health care universal service support mechanism. The Commission implemented the rural health care mechanism at the direction of Congress as provided in the Telecommunications Act of 1996 (1996 Act). In past years of its operation, the rural health care mechanism has provided discounts that have facilitated the ability of health care providers to provide critical access to modern telecommunications and information services for medical and health maintenance purposes to rural America. Participation in the rural health care universal service support mechanism, however, has not met the Commission's projections. The Commission finds it appropriate to assess whether our rules and policies require modification.

OMB Control No.: 3060-0929.

Title: Application for Multipoint Distribution Service (MDS) or Instructional Television Fixed Service (ITFS) Modification to Main Station, Booster Station, Response Station Hub or 125 kHz (I Channel) Station.

Form No: FCC Forms 331.

Type of Review: Extension (no change) of a currently approved collection.

Respondents: Business or other for-profit and not-for-profit institutions and state, local or tribal government.

Number of Respondents: 4,000.

Estimated Time Per Response: 2-24 hours.

Frequency of Response: On occasion reporting requirements.

Total Annual Burden: 8,000 hours.

Total Annual Cost: $19,465,000.

Needs and Uses: FCC Form 331 is required to be used by the licensees of MDS, MMDS, ITFS, or commercial ITFS to apply for modification to a main station, response station hub, high-power signal booster station, notification of low-power signal booster station or 125 kHz (I Channel) point to multipoint transmissions. The data is used by FCC staff to determine whether the applicant meets legal and technical requirements and to ensure that the public interest would be served by grant of the application.

OMB Control No.: 3060-0697.

Title: Facilitating the Future Development of Paging Systems via Parts 22 and 90.

Form No.: N/A.

Type of Review: Revision of a currently approved collection.

Respondents: Individuals or households, business or other for-profit, not-for-profit institutions and state, local or tribal government.

Number of Respondents: 417 respondents; 10,032 responses.

Estimated Time Per Response: 1 hour.

Frequency of Response: On occasion reporting requirement and recordkeeping requirement.

Total Annual Burden: 10,032 hours.

Total Annual Cost: $150,480.

Needs and Uses: The Commission is revising this information collection to consolidate it with OMB Control Number 3060-0765. As a result, the cost and hour burdens in this collection has been modified to reflect the inclusion of information collection 3060-0765, as well as incorporating new licensees who must meet the same recordkeeping requirements.

OMB Control No.: 3060-0410.

Title: Forecast of Investment Usage Report and Actual Usage of Investment Report.

Report Nos.: FCC Reports 495A and 495B.

Type of Review: Revision of a currently approved collection.

Respondents: Business or other for-profit.

Number of Respondents: 96 respondents; 192 responses.

Estimated Time Per Response: 40 hours.

Frequency of Response: Annual reporting requirement.

Total Annual Burden: 7,680 hours.

Total Annual Cost: N/A.

Needs and Uses: The Commission has revised this information collection to eliminate the mandatory CAM filing and attestation audits or mid-sized carriers. Therefore, the mid-sized carriers are no longer required to file FCC Reports 495A and 495B or the “no data letter.” The Commission has adjusted the number of responses by 26 to reflect an increase in the number of respondents.

Federal Communications Commission.
Marlene H. Dortch,
Secretary.

[FR Doc. 04-3362 Filed 2-13-04; 8:45 am]

BILLING CODE 6712-01-M